DEPARTMENT OF ENERGY

Federal Energy Regulatory Commission

[Docket No. CP20-493-000]

Tennessee Gas Pipeline Company, L.L.C.; Notice of Availability of the Final Environmental Impact Statement for the Proposed; East 300 Upgrade Project

The staff of the Federal Energy Regulatory Commission (FERC or Commission) has prepared a final environmental impact statement (EIS) for the East 300 Upgrade Project, proposed by Tennessee Gas Pipeline Company, L.L.C. (Tennessee) in the above-referenced docket. Tennessee requests authorization to modify two existing compressor stations and construct one new compressor station in Pennsylvania and New Jersey to create 115 million cubic feet per day of firm transportation capacity on Tennessee's existing 300 Line for Consolidated Edison Company of New York, Inc.

The final EIS assesses the potential environmental effects of the construction and operation of the East 300 Upgrade Project in accordance with the requirements of the National Environmental Policy Act (NEPA). The EIS is not a decision document. It presents Commission staff's independent analysis of the environmental issues for the Commission to consider when addressing the merits of all issues in this proceeding.

The final EIS responds to comments that were received on the Commission's February 19, 2021 environmental assessment (EA) and July 2, 2021 draft EIS ¹ and discloses downstream greenhouse gas emissions for the project. With the exception of climate change impacts, the FERC staff concludes that approval of the proposed project, with the mitigation measures recommended in this EIS, would not result in significant environmental impacts. FERC staff continues to be unable to determine significance with regards to climate change impacts.

¹ The project's EA is available on eLibrary under accession no. 20210219-3034 and the draft EIS is available under accession no. 20210702-3037.

The final EIS incorporates the above-referenced EA, which addressed the potential environmental effects of the construction and operation of the following project facilities:

• Modifications at existing Compressor Station 321 in Susquehanna County, Pennsylvania, including the installation of one Solar Taurus 70 turbine with an International Organization for Standardization (ISO) rating of 11,107 horsepower and auxiliary facilities;

• modifications at existing Compressor Station 325 in Sussex County, New Jersey, including installation of one Solar Titan 130 turbine with an ISO rating of 20,500 horsepower and auxiliary facilities; and

• construction of the new Compressor Station 327 equipped with a single 19,000-horsepower electric-driven compressor unit and associated auxiliary facilities in Passaic County, New Jersey.

The Commission mailed a copy of the Notice of Availability of the Final Environmental Impact Statement for the Proposed East 300 Upgrade Project to federal, state, and local government representatives and agencies; elected officials; environmental and public interest groups; Native American tribes; potentially affected landowners and other interested individuals and groups; and newspapers and libraries in the project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search), select “General Search,” and enter the docket number in the “Docket Number” field (i.e., CP20-493). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: September 24, 2021.
Kimberly D. Bose,
Secretary.

[FR Doc. 2021-21265 Filed 9-29-21; 8:45 am]

BILLING CODE 6717-01-P